DEPARTMENT OF THE INTERIOR

National Park Service

Environmental Statements; Availability, etc: Saratoga National Historical Park, NY; Draft General Management Plan

AGENCY: National Park Service, Interior.

ACTION: Notice of availability.

SUMMARY: Pursuant to section 102 (2)(C) of the National Environmental Policy Act of 1969, the National Park Service announces the availability of the Draft General Management Plan / Draft Environmental Impact Statement (GMP/EIS) for Saratoga National Historical Park, New York. Consistent with the park's mission, National Park Service policy, and other laws and regulations, the Draft GMP/EIS presents four alternatives to guide park management over the next 15 to 20 years. The alternatives incorporate various management prescriptions to ensure protection and public enjoyment of the park's resources. The report also evaluates potential environmental consequences of implementing the alternatives. Impact topics include cultural and natural resources, visitor experience, park operations, the socioeconomic environment, and impairment. Alternative D is the preferred alternative.

DATES: The Draft GMP/EIS will be on public review for 60 days from 1/2/04 through 3/1/04. Public meetings will be held during this period and will be publicized in local media outlets.

FOR FURTHER INFORMATION OR TO REQUEST A COPY OF THE DOCUMENT CONTACT: Superintendent, Saratoga National Historical Park, 648 Route 32, Stillwater, NY 12170-1604 at telephone (518) 664-9821 or fax (518) 664-9830.

Please submit comments to the Superintendent in writing at the above address or fax, or submit comments electronically to sara_info@nps.gov. After public and interagency review of the Draft GMP/EIS, comments will be considered, and a Final GMP/EIS, followed by a Record of Decision, will be prepared. The process is scheduled for completion in 2004.

Dated: December 2, 2003.
Robert W. McIntosh,
Associate Regional Director, Planning & Partnerships, Northeast Region.

[FR Doc. 04-1880 Filed 1-28-04; 8:45 am]

BILLING CODE 4310-51-P